COMMITTEE FOR THE IMPLEMENTATION OF TEXTILE AGREEMENTS

Determination under the Textile and Apparel Commercial Availability Provision of the Dominican Republic-Central America-United States Free Trade Agreement (CAFTA-DR Agreement); Correction

September 5, 2007.

In the notice published in the Federal Register on August 20, 2007 (72 FR 46445), CITA provided specifications for the subject woven fabrics. On page 46446, first column, in the table providing specifications for the 75% cotton, 25% nylon woven fabric, classified under the HTS number 5211.31.0020, under “Filling Yarn Size,” please change the specifications from “35.5/1 metric (slub yarn of cotton wrapped around a 45 metric filament nylon)” to “35.5/1 metric (slub yarn of cotton alternating with a 45 metric filament nylon).”

R. Matthew Priest,
Chairman, Committee for the Implementation of Textile Agreements.

[FR Doc. E7-17894 Filed 9-10-07; 8:45 am]

BILLING CODE 3510-DS-S